DEPARTMENT OF COMMERCE

National Oceanic and Atmospheric Administration

50 CFR Part 648

[Docket No. 160301164-6694-02 ]

RIN 0648-BF87

Magnuson-Stevens Fishery Conservation and Management Act Provisions; Fisheries of the Northeastern United States; Northeast Skate Complex; Framework Adjustment 3; Correction

AGENCY: National Marine Fisheries Service (NMFS), National Oceanic and Atmospheric Administration (NOAA), Commerce.

ACTION: Final rule; correction.

SUMMARY: This action corrects two errors in the total allowable landing values specified in the final rule to implement Framework Adjustment 3 to the Northeast Skate Complex Fishery Management Plan published in the Federal Register on August 17, 2016.

DATES: Effective September 2, 2016.

FOR FURTHER INFORMATION CONTACT: William Whitmore, Fishery Policy Analyst, phone: 978-281-9182; email: William.Whitmore@noaa.gov.

SUPPLEMENTARY INFORMATION: On August 17, 2016, we published a final rule for Framework Adjustment 3 to the Northeast Skate Complex Fishery Management Plan (81 FR 54744). That final rule included two errors in the 2016-2017 final specifications that are not consistent with the values included in Framework Adjustment 3 and the June 6, 2016, proposed rule (81 FR 36251). The specifications in Framework Adjustment 3 and its proposed rule are correct and will remain.

The final rule mistakenly stated that the skate complex total allowable landings (TAL) is 12,872 mt. A draft version of Framework 3 specified a TAL of 12,872 mt, but the TAL was later revised through an addendum to the Framework after the formula used to calculate the proportion of dead skate discards was revised. The correct skate TAL for fishing years 2016-2017 is 12,590 mt.

A typographical error for the Season 1 skate wing TAL was included in Table 1 of the final rule. This correction rule adjusts the Season 1 skate wing TAL from 4,722 mt to the correct value of 4,772 mt, as specified in the Framework 3 proposed rule.

Corrections

In FR Doc. 2016-19601 appearing on page 54744 in the Federal Register of Wednesday, August 17, 2016, the following corrections are made:

1. On page 54744, in the third column, the first paragraph under Specifications for Fishing Years 2016-2017 is corrected to read as follows:

Specifications including the acceptable biological catch (ABC), annual catch limit (ACL), annual catch target (ACT), and total allowable landings (TALs) for the skate wing and bait fisheries, as well as possession limits, may be specified for up to 2 years. The 2016-2017 skate complex ABC and ACL is 31,081 metric tons (mt). After removing management uncertainty from the ABC, the ACT that remains is 23,311 mt. After removing discards and state landings from the ACT, the TAL that remains is 12,590 mt. Tables 1 and 2 (below) detail TALs and possession limits for the skate wing and skate bait fisheries—there are no possession limit changes from last year. These specifications and possession limits remain in effect until they are replaced.

2. On pages 54744 and 54745, Table 1 is corrected to read as follows:

Table 1—Total Allowable Landings for Fishing Years 2016-2017
Total allowable landings (TAL) | mt
Skate Wing Fishery:
Season 1 (May 1-Aug 31) | 4,772
Season 2 (Sept 1-Apr 30) | 3,600
Skate Bait Fishery:
Season 1 (May 1-Jul 31) | 1,299
Season 2 (Aug 1-Oct 31) | 1,565
Season 3 (Nov 1-Apr 30) | 1,354

Dated: August 24, 2016.
Samuel D. Rauch III,
Deputy Assistant Administrator for Regulatory Programs, National Marine Fisheries Service.

[FR Doc. 2016-21156 Filed 9-1-16; 8:45 am]

BILLING CODE 3510-22-P